DEPARTMENT OF COMMERCE

Census Bureau

U.S. Census Bureau Tribal Consultation; Virtual Public Meeting

AGENCY: Census Bureau, Department of Commerce.

ACTION: Notice of virtual public meeting

SUMMARY: The U.S. Census Bureau (Census Bureau) will conduct two virtual Tribal consultations on updating the race/ethnicity code list for the American Community Survey and the 2030 Census on December 11, 2024, and January 15, 2025. The two virtual Tribal consultation webinars will reflect the Census Bureau's continuous commitment to strengthen government-to-government relationships with federally recognized Tribes. The Census Bureau's procedures for outreach, notice, and consultation ensure involvement of Tribes, to the extent practicable and permitted by law, before making decisions or implementing policies, rules, or programs that affect federally recognized Tribal governments. These meetings are open to citizens of federally and State recognized Tribes by invitation.

DATES: The Census Bureau will conduct two virtual Tribal consultations; the first on Wednesday, December 11, 2024, from 3 p.m. to 4:30 p.m. ET and the second on Wednesday, January 15, 2025, from 3 p.m. to 4:30 p.m. ET. Any questions or topics to be considered in the Tribal consultation meetings must be received in writing via email by December 2, 2024.

FOR FURTHER INFORMATION CONTACT: Dee Alexander, Tribal Affairs Coordinator, Office of Congressional and Intergovernmental Affairs, Intergovernmental Affairs Office, U.S. Census Bureau, Washington, DC 20233; telephone (301) 763-9335; (202) 407-6635 or email at Dee.A.Alexander@census.gov or ocia.tao@census.gov.

SUPPLEMENTARY INFORMATION: Meeting Information: The Census Bureau Tribal consultation webinar meetings will be held via the WebEx platform at the following presentation link:

Wednesday, December 11, 2024, 3 p.m.-4:30 p.m. ET

Register link: https://uscensus.webex.com/weblink/register/r489540f73a388fe3c4c9f6b9bbd3f648.

Date and time: Wednesday, January 15, 2025, 3 p.m.-4:30 p.m. ET.

Register link: https://uscensus.webex.com/weblink/register/ree1ade98a8ed634b2754ef6209796141.

Once you register as an attendee, you will receive an email with login information, or the option to join via phone only.

Submit your comments by email. Send comments to: Dee.A.Alexander@census.gov or OCIA.TAO@census.gov.

The Census Bureau is planning two national webinars to be held on December 11, 2024, and January 15, 2025, with federally and State recognized Tribes, which will provide a forum for Tribes to learn about its Race/Ethnicity Coding Improvement Project and provide feedback. The Race/Ethnicity Coding Improvement Project provides an opportunity for Tribes to provide feedback on how detailed race and/or ethnicity and American Indian or Alaska Native populations will be coded in the American Community Survey (ACS) and the 2030 Census. The Census Bureau aims to enhance and improve the code list that was used in the 2020 Census and is currently used in the ACS to ensure that detailed race and/or ethnicity and Tribal responses are accurately coded and tabulated in future data collections.

The webinars will provide information on how to interpret and understand the code list and its impact on the data Tribes receive. Tribal leaders will have the opportunity to provide feedback on alternative terms, abbreviations, or in-language terms that individuals may use to identify themselves as a citizen of their Tribes and any groups that may be missing or misclassified in the code list. We are providing Tribes for their review the proposed code list and Federal Register Notice with background information about this project. The Census Bureau is seeking feedback from Tribal governments on the following questions:

1. Are there any groups missing from the proposed code list? If so, please identify them and suggest how the groups should be classified and why.

2. Are any groups on the proposed code list misclassified? If so, please identify them and suggest an alternative classification or indicate if the term should be removed.

3. Are there alternative terms, abbreviations, or in-language terms people may use to identify with a specific group that should be added to the proposed code list? If so, please identify them and suggest a classification.

In accordance with Executive Order 13175, Consultation and Coordination with Indian Tribal Governments, issued November 6, 2000, the Census Bureau has adhered to its Tribal consultation policy by seeking the input of Tribal governments in the planning and implementation of the ACS and the 2030 Census with the goal of ensuring the most accurate counts and data for the American Indian or Alaska Native population. In that regard, the Census Bureau is seeking comments on the proposed race/ethnicity code list: https://www2.census.gov/programs-surveys/demo/2030-race-and-or-ethnicity-code-list/.

Tribes will have until February 5, 2025, to review the proposed updates to the code list and provide input.

Robert L. Santos, Director, Census Bureau, approved the publication of this notice in the Federal Register.

Dated: October 28, 2024.
Shannon Wink,
Program Analyst, Policy Coordination Office, U.S. Census Bureau.

[FR Doc. 2024-26172 Filed 11-8-24; 8:45 am]

BILLING CODE 3510-07-P